DEPARTMENT OF THE INTERIOR

Bureau of Reclamation

[DES-05-59]

Long-Term Miscellaneous Purposes Contract, Eddy County, NM

AGENCY: Bureau of Reclamation, Interior.

ACTION: Notice of Availability and Notice of Public Meeting for the Long-Term Miscellaneous Purposes Contract Draft Environmental Impact Statement, Eddy County, New Mexico.

SUMMARY: Pursuant to the National Environmental Policy Act (NEPA) of 1969, as amended, the Bureau of Reclamation (Reclamation) and the New Mexico Interstate Stream Commission (NMISC), as joint lead agencies, have prepared a draft environmental impact statement (DEIS) on the execution of a long-term contract based upon the 1920 Sale of Water for Miscellaneous Purposes Act (long-term miscellaneous purposes contract) with the Carlsbad Irrigation District (CID), New Mexico, and the subsequent conversion and delivery of the full amount of irrigation water addressed in the contract and any related contracts. Reclamation is the lead federal agency and the NMISC is a joint lead agency for NEPA compliance on the proposed federal action.

DATES: A 60-day public review period commences with the publication of this notice. Written comments on the DEIS should be submitted no later than Monday, March 13, 2006, to Ms. Marsha Carra, Bureau of Reclamation, Albuquerque Area Office, 555 Broadway NE., Suite 100, Albuquerque, New Mexico 87102.

Reclamation will conduct a public meeting to obtain input on the DEIS. The meeting will be held at the following time and location:

• Wednesday, February 8, 2006—7 to 9 p.m., Best Western Stevens Inn, Room Nos. 2 and 3, 1829 South Canal Street, Carlsbad, New Mexico.

ADDRESSES: Copies of the DEIS are available for public inspection and review at the following locations:

• Bureau of Reclamation, Upper Colorado Regional Office, 125 South State Street, Room 7220, Salt Lake City, Utah 84138-1102.

• Bureau of Reclamation, Albuquerque Area Office, Attention: Marsha Carra, 555 Broadway NE., Suite 100, Albuquerque, New Mexico 87102.

• New Mexico Interstate Stream Commission, Attention: Elisa Sims, 230 West Manhattan Avenue, 2nd Floor, Santa Fe, New Mexico 87501.

• Carlsbad Public Library, 101 South Halagueno Street, Carlsbad, New Mexico 88221.

• Carlsbad Irrigation District, 201 South Canal Street, Carlsbad, New Mexico 88220.

The DEIS is also available on the Internet at the following Web address: http://www.usbr.gov/uc/albuq/envdocs/index.html. In addition, interested parties may contact Ms. Aleta Powers, ERO Resources Corporation, 1842 Clarkson Street, Denver, Colorado 80218; telephone (303) 830-1188; e-mail: apowers@eroresources.com.

FOR FURTHER INFORMATION CONTACT: Ms. Marsha Carra, Bureau of Reclamation, Albuquerque Area Office, 555 Broadway NE., Suite 100, Albuquerque, New Mexico 87102; telephone (505) 462-3602; facsimile (505) 462-3797; e-mail: mcarra@uc.usbr.gov or Elisa Sims, New Mexico Interstate Stream Commission, P.O. Box 25102, Santa Fe, New Mexico 87504-5102; telephone (505) 827-3918; e-mail: elisa.sims@state.nm.us.

SUPPLEMENTARY INFORMATION: The purpose of Reclamation's proposed federal action is to allow the NMISC to use Carlsbad Project water (Project water) for purposes other than irrigation, specifically for delivery to Texas. As a member of CID, the NMISC needs to use Project water for purposes other than irrigation to maintain long-term compliance with the Pecos River Compact and the United States Supreme Court Amended Decree in Texas v. New Mexico. Project water is available for lease to the NMISC under a Contingent Water Contract where: (1) Willing lessors temporarily forego irrigation of their lands in an irrigation season (fallowed land water) or (2) allotted water is not delivered to farms by October 31 of a given year (undelivered allotment water). The long-term miscellaneous purposes contract would replace a 1999 short-term contract that Reclamation currently has with the CID that allows the NMISC to use Project water for miscellaneous purposes.

Between 1987 and the present, New Mexico has satisfied its water delivery obligations to Texas under the Pecos River Compact (Compact) and Amended Decree. In some years, New Mexico has over-delivered water to the state line and in other years it has under-delivered. New Mexico has been able to satisfy its Compact obligations in large part because of its leasing program and the fallowing of irrigated land within CID. The leasing program within CID has operated under an existing short-term miscellaneous purposes contract since 1992, which allows irrigation water to be delivered to the state line on behalf of the NMISC.

The State of New Mexico ex rel. the State Engineer, NMISC, Reclamation, CID, and the Pecos Valley Artesian Conservancy District entered into a Settlement Agreement on March 25, 2003, that resolves litigation, implements a plan to ensure delivery of water to the CID and New Mexico-Texas state line, and settles many water management issues on the Pecos River. An ad hoc committee comprised of water users in the Pecos River Basin was formed to develop a solution for long-term compliance with the Pecos River Compact and Amended Decree, resulting in the Settlement Agreement. In addition, the implementation of the Settlement Agreement is contingent upon fulfilling certain requirements, including the execution of a long-term miscellaneous purposes contract.

On February 28, 2003, Reclamation published a notice in the Federal Register stating plans to execute a contract with the CID that would allow the NMISC to use water allotted for up to 6,000 acres, or other available Project water, for purposes other than irrigation. These 6,000 acres, plus 164 acres that the NMISC currently owns within the boundaries of the CID, would be fallowed under this contract. Execution of this contract would not preclude future use of the water for irrigation purposes on lands owned by the NMISC. The Commissioner of Reclamation has granted approval to negotiate and execute a long-term miscellaneous purposes contract, pursuant to authority provided by the Sale of Water for Miscellaneous Purposes Act of February 25, 1920, whereby the NMISC would be limited to using or leasing a maximum of 50,000 acre-feet of Project water per year.

The two alternatives analyzed in the draft EIS are the Proposed Action Alternative which is the execution of a long-term miscellaneous purposes contract and approval of any related third-party contracts, and the No Action Alternative. The draft EIS assesses the potential effects that the two alternatives may have on biological, hydrologic, and cultural resources; social and economic settings; and Indian trust assets as well as any potential disproportionate effects on minority or low-income communities (environmental justice). The draft EIS also evaluates the effects of the alternatives on the State of New Mexico's ability to meet annual state line delivery obligations associated with the Pecos River Compact and Amended Decree.

After the 60-day waiting period, Reclamation will complete a final environmental impact statement (FEIS). Responses to comments received from organizations and individuals on the DEIS will be addressed in the FEIS.

Public Disclosure

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: November 7, 2005.
Darryl Beckmann,
Deputy Regional Director—UC Region, Bureau of Reclamation.

[FR Doc. 06-187 Filed 1-11-06; 8:45 am]

BILLING CODE 4310-MN-P